DEPARTMENT OF LABOR

Employment and Training Administration

Comment Request for Information Collection for Workforce Information Grants to States Application Instructions for PY 2011, Extension Without Revisions

AGENCY: Employment and Training Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Workforce Information (WI) Grants to States, OMB Control Number 1205-0417 that expires on May 31, 2011.

A copy of the proposed information collection request (ICR) can be obtained by contacting the office listed below in the addressee section of this notice.

DATES: Written comments must be submitted to the office listed in the addressee's section below on or before March 7, 2011.

ADDRESSES: Submit written comments to Mr. Anthony Dais, Room S-4231, Employment and Training Administration, 200 Constitution Avenue, NW., Washington, DC 20210. Telephone number: 202-693-2784 (this is not a toll-free number). Fax: 202-693-3015. E-mail: dais.anthony@dol.gov.

SUPPLEMENTARY INFORMATION: I. Background: In May 2008, the Employment and Training Administration (ETA) received three-year approval from the Office of Management and Budget (OMB) to publish without change the annual planning guidance for the Workforce Information Grants to States under OMB Control Number 1205-0417. This approval will expire on May 31, 2011.

On July 16, 2010, ETA published the application instructions for program year (PY) 2010 Workforce Information Grants to States (One-Stop Workforce Information Grant Plan and Annual Performance Report) through Training and Employment Guidance Letter (TEGL) 3-10. ETA is requesting to continue the information collection requirements specified in TEGL 3-10 and be granted OMB approval for three years following the current date of expiration. This Federal Register notice is to request public comments and recommendations regarding the continuation of the information collection.

The purpose of the information collection required by TEGL 3-10 is to strengthen and support state and regional use of workforce and economic information, increase data integration, expand the use of economic analysis, information disseminated via the Internet and other means to inform workforce investment decision-making. At the same time, ETA intends to retain a high level of state flexibility, and maintain the current state reporting burden. It is ETA's goal for the Workforce Information Grants to States to support increased employment and sustainable economic growth and recovery by supporting state and local workforce system transformational efforts. Therefore, ETA expects states through their labor market information (LMI)/WI research entities to provide: Reliable foundational data; actionable workforce information; and economic research and information services to state and local policy makers, workforce system staff, job seekers, and external partners. These workforce information services will support the development of data-driven policy, inform training and employment program design and investment decision-making, support consultations with strategic partners, and leverage limited WI program grant resources.

The data/information collection required from each grantee includes:

(a) Submission of an annual grant statement of work (SOW) certification affirming the planned accomplishment of expected grant deliverables signed by both the Administrator of the State Workforce Agency (SWA) and the Chair of the State Workforce Investment Board (SWIB), or by the Governor.

(b) Submission of published economic analyses, special workforce information reports, and/or economic studies determined to be relevant and of benefit to the Governor and state and local workforce investment boards (WIBs).

(c) Submission of an annual performance report that is signed by both the Administrator of the SWA and Chair of the SWIB, or by the Governor.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Workforce Information Grant to States (One-Stop Workforce Information Grant Plan and Annual Performance Report).

OMB Number: 1205-0417.

Affected Public: State.

Form(s): N/A.

Total Annual Respondents: 54.

Annual Frequency: Once.

Total Annual Responses: 162.

Average Time per Response: Grant Prep and Certification—63 hrs; Relevant Economic Analyses—434 hrs; Annual Report—80 hrs;

Estimated Total Annual Burden Hours: 31,158.

Total Annual Burden Cost for Respondents: $1,246,320.

Comments submitted in response to this comment request will be summarized and/or included in the request for Office of Management and Budget approval of the information collection request; they will also become a matter of public record.

Dated: December 28, 2010.
Jane Oates,
Assistant Secretary, Employment and Training Administration.

[FR Doc. 2010-33247 Filed 1-4-11; 8:45 am]

BILLING CODE 4510-FT-P